DEPARTMENT OF TRANSPORTATION

Federal Aviation Administration

14 CFR Part 97

[Docket No. 30398; Amdt. No. 3084]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective December 2, 2003. The compliance date for each SIAP is specified in the amendatory provisions.

The incorporation by reference of certain publications listed in the regulations is approved by the Director of the Federal Register as of December 2, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on November 21, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective December 25, 2003

North Little Rock, AR, North Little Rock Muni, RNAV (GPS) RWY 5, Orig.

North Little Rock, AR, North Little Rock Muni, GPS RWY 5, Amdt. 1, Cancelled

Searcy, AR, Searcy Muni, LOC RWY 1, Orig.

Daytona Beach, FL, Daytona Beach Intl, LOC BC RWY 25R, Amdt. 15

Daytona Beach, FL, Daytona Beach Intl, ILS RWY 7L, Amdt. 29

Sandersville, GA, Kaolin Field, NDB OR GPS RWY 12, Amdt. 3, Cancelled

Sandersville, GA, Kaolin Field, NDB RWY 12, Orig.

St. Cloud, MN, St. Cloud Regional, ILS OR LOC RWY 31, Amdt. 3

St. Cloud, MN, St. Cloud Regional, VOR/DME RWY 13, Orig.

St. Cloud, MN, St. Cloud Regional, VOR RWY 31, Orig.

St. Cloud, MN, St. Cloud Regional, NDB RWY 31, Amdt. 3

St. Cloud, MN, St. Cloud Regional, VOR/DME RWY 13, Amdt. 8C, Cancelled

St. Cloud, MN, St. Cloud Regional, VOR RWY 31, Amdt. 11, Cancelled

Berlin, NH, Berlin Muni, RNAV (GPS) RWY 18, Orig.

Berlin, NH, Berlin Muni, GPS RWY 18, Orig, Cancelled

Berlin, NH, Berlin Muni, VOR-B, Amdt. 2A

New York, NY, John F. Kennedy Intl, ILS RWY 22L, Amdt. 24

Liberty, NC, Causey, RNAV (GPS) RWY 2, Orig.

Liberty, NC, Causey, RNAV (GPS) RWY 20, Orig.

Liberty, NC, Causey, VOR RWY 2, Amdt. 5

Zanesville, OH, Zanesville Muni, ILS OR LOC/DME RWY 22, Orig.

Ponca City, OK, Ponca City Rgnl, RNAV (GPS) RWY 17, Orig.

Ponca City, OK, Ponca City Rgnl, GPS RWY 17, Orig., Cancelled

Ponca City, OK, Ponca City Rgnl, RNAV (GPS) RWY 35, Orig.

Ponca City, OK, Ponca City Rgnl, GPS RWY 35, Orig-A, Cancelled

Wagoner, OK, Hefner-Easley, RNAV (GPS) RWY 18, Orig.

Wagoner, OK, Hefner-Easley, RNAV (GPS) RWY 36, Orig.

Newport News, VA, Newport News/Williamsburg Intl, NDB RWY 2, Amdt. 5

Newport News, VA, Newport News/Williamsburg Intl, NDB RWY 20, Amdt. 4

Newport News, VA, Newport News/Williamsburg Intl, RNAV (GPS) RWY 2, Orig.

Newport News, VA, Newport News/Williamsburg Intl, RNAV (GPS) RWY 20, Orig.

New Richmond, WI, New Richmond Muni, NDB RWY 14, Amdt. 2

New Richmond, WI, New Richmond Muni, RNAV (GPS) RWY 14, Orig.

New Richmond, WI, New Richmond Muni, RNAV (GPS) RWY 32, Orig.

New Richmond, WI, New Richmond Muni, GPS RWY 32, Orig., Cancelled

* * * Effective January 22, 2004

Ada, OK, Ada Muni, VOR/DME-A, Orig.-D

* * * Effective February 19, 2004

Chevak, AK, Chevak, RNAV (GPS) RWY 14, Orig.

Chevak, AK, Chevak, RNAV (GPS) RWY 32, Orig.

Kivalina, AK, Kivalina, RNAV (GPS) RWY 12, Orig.

Kivalina, AK, Kivalina, RNAV (GPS) RWY 30, Orig.

Kotlik, AK, Kotlik, RNAV (GPS) RWY 02, Orig.

Kotlik, AK, Kotlik, RNAV (GPS) RWY 20, Orig.

Fort Worth, TX, Fort Worth Meacham Intl, NDB RWY 16, Amdt. 6

Fort Worth, TX, Fort Worth Meacham Intl, RNAV (GPS) RWY 16, Orig.

Quinton, VA, New Kent County, RNAV (GPS) RWY 10, Orig.

Quinton, VA, New Kent County, RNAV (GPS) RWY 28, Orig.

Quinton, VA, New Kent County, VOR-A, Amdt. 1

[FR Doc. 03-29844 Filed 12-1-03; 8:45 am]

BILLING CODE 4910-13-P